DEPARTMENT OF ENERGY

Federal Energy Regulatory Commission

Combined Notice of Filings #1

Take notice that the Commission received the following electric rate filings:

Docket Numbers: ER17-910-002; ER17-1509-002; ER17-2181-002; ER18-1102-001.

Applicants: Pacific Gas and Electric Company, Pacific Gas and Electric Company, Pacific Gas and Electric Company, Pacific Gas and Electric Company.

Description: Informational Filing for a Wholesale Distribution Tariff Service Agreement between Pacific Gas and Electric Company and the City and County of San Francisco Service Agreement No. 275.

Filed Date: 3/9/22.

Accession Number: 20220309-5198.

Comment Date: 5 p.m. ET 3/30/22.

Docket Numbers: ER21-2988-002.

Applicants: Public Service Company of New Mexico.

Description: Compliance filing: PNM Schedule 2 Compliance Filing to be effective 10/1/2021.

Filed Date: 3/11/22.

Accession Number: 20220311-5002.

Comment Date: 5 p.m. ET 4/1/22.

Docket Numbers: ER22-1247-000.

Applicants: NSTAR Electric Company.

Description: NSTAR Electric Company and Park City Wind LLC submit a Petition of Pre-Arranged Settlement of Transmission Support Agreement with a Request for Shortened Comment Period and Expedited Action.

Filed Date: 3/8/22.

Accession Number: 20220308-5169.

Comment Date: 5 p.m. ET 3/22/22.

Docket Numbers: ER22-1252-000.

Applicants: Pacific Gas and Electric Company.

Description: Notice of Termination of Service Agreement No. 27 under Pacific Gas and Electric Company with Gilroy Energy Center, LLC.

Filed Date: 3/9/22.

Accession Number: 20220309-5199.

Comment Date: 5 p.m. ET 3/30/22.

Docket Numbers: ER22-1253-000.

Applicants: PacifiCorp.

Description: § 205(d) Rate Filing: UAMPS Const Agmt St. George POTT to be effective 5/10/2022.

Filed Date: 3/10/22.

Accession Number: 20220310-5142.

Comment Date: 5 p.m. ET 3/31/22.

Docket Numbers: ER22-1254-000.

Applicants: RockGen Energy LLC.

Description: Tariff Amendment: Notice of Cancellation of FERC Electric Tariff No. 1 and Tariff ID to be effective 3/11/2022.

Filed Date: 3/10/22.

Accession Number: 20220310-5145.

Comment Date: 5 p.m. ET 3/31/22.

Docket Numbers: ER22-1255-000.

Applicants: Pacific Gas and Electric Company.

Description: Notice of Termination of Service Agreement No. 43 and 44 of the Wholesale Distribution Tariff under Pacific Gas and Electric Company.

Filed Date: 3/9/22.

Accession Number: 20220309-5200.

Comment Date: 5 p.m. ET 3/30/22.

Docket Numbers: ER22-1257-000.

Applicants: Midcontinent Independent System Operator, Inc., American Transmission Company LLC.

Description: § 205(d) Rate Filing: Midcontinent Independent System Operator, Inc. submits tariff filing per 35.13(a)(2)(iii: 2022-03-11_SA 2795 ATC-City of Hartford 2nd Rev CFA to be effective 5/11/2022.

Filed Date: 3/11/22.

Accession Number: 20220311-5007.

Comment Date: 5 p.m. ET 4/1/22.

Docket Numbers: ER22-1258-000.

Applicants: Midcontinent Independent System Operator, Inc., American Transmission Company LLC.

Description: § 205(d) Rate Filing: Midcontinent Independent System Operator, Inc. submits tariff filing per 35.13(a)(2)(iii: 2022-03-11_SA 2796 ATC-City of Kaukauna 2nd Rev CFA to be effective 5/11/2022.

Filed Date: 3/11/22.

Accession Number: 20220311-5008.

Comment Date: 5 p.m. ET 4/1/22.

Docket Numbers: ER22-1259-000.

Applicants: PJM Interconnection, L.L.C.

Description: Tariff Amendment: Notice of Cancellation of WMPA, Service Agreement No. 5602; Queue No. AE1-147 to be effective 3/12/2022.

Filed Date: 3/11/22.

Accession Number: 20220311-5009.

Comment Date: 5 p.m. ET 4/1/22.

Docket Numbers: ER22-1261-000.

Applicants: Midcontinent Independent System Operator, Inc., American Transmission Company LLC.

Description: § 205(d) Rate Filing: Midcontinent Independent System Operator, Inc. submits tariff filing per 35.13(a)(2)(iii: 2022-03-11_SA 2775 ATC-Marshfield 2nd Rev CFA to be effective 5/11/2022.

Filed Date: 3/11/22.

Accession Number: 20220311-5034.

Comment Date: 5 p.m. ET 4/1/22.

Docket Numbers: ER22-1262-000.

Applicants: New York Independent System Operator, Inc.

Description: Compliance filing: Compliance filing to comply with Order No. 676-J NAESB WEQ Cybersecurity & PFV to be effective 6/2/2022.

Filed Date: 3/11/22.

Accession Number: 20220311-5050.

Comment Date: 5 p.m. ET 4/1/22.

Docket Numbers: ER22-1263-000.

Applicants: Tri-State Generation and Transmission Association, Inc.

Description: Tariff Amendment: Notice of Cancellation of Service Agreement FERC No. 892 to be effective 2/17/2022.

Filed Date: 3/11/22.

Accession Number: 20220311-5085.Comment Date: 5 p.m. ET 4/1/22.

Docket Numbers: ER22-1264-000.

Applicants: Tri-State Generation and Transmission Association, Inc.

Description: Tariff Amendment: Notice of Cancellation of Service Agreement No. 893 to be effective 2/18/2022.

Filed Date: 3/11/22.

Accession Number: 20220311-5087.

Comment Date: 5 p.m. ET 4/1/22.

Docket Numbers: ER22-1265-000.

Applicants: PJM Interconnection, L.L.C.

Description: § 205(d) Rate Filing: Original NSA, SA No. 6362; Queue No. NQ-90 to be effective 2/9/2022.

Filed Date: 3/11/22.

Accession Number: 20220311-5091.

Comment Date: 5 p.m. ET 4/1/22.

Docket Numbers: ER22-1266-000.

Applicants: PJM Interconnection, L.L.C.

Description: § 205(d) Rate Filing: Original NSA, SA No. 6363; Queue No. H23_W70/K28 to be effective 2/10/2022.

Filed Date: 3/11/22.

Accession Number: 20220311-5108.

Comment Date: 5 p.m. ET 4/1/22.

Docket Numbers: ER22-1267-000.

Applicants: Southern California Edison Company.

Description: Tariff Amendment: Notice of Cancellation EDP Ltr Agreement SCE and San Jacinto Grid SA No. 1097 to be effective 5/11/2022.

Filed Date: 3/11/22.

Accession Number: 20220311-5109.

Comment Date: 5 p.m. ET 4/1/22.

Docket Numbers: ER22-1272-000.

Applicants: Phillips 66 Energy Trading LLC.

Description: Baseline eTariff Filing: Application for Market-Based Rate Authorization, Request for Related Waivers to be effective 5/11/2022.

Filed Date: 3/11/22.

Accession Number: 20220311-5177.

Comment Date: 5 p.m. ET 4/1/22.

Take notice that the Commission received the following electric reliability filings:

Docket Numbers: RR22-2-000.

Applicants: North American Electric Reliability Corporation.

Description: Joint Petition of North American Electric Reliability Corporation and Northeast Power Coordinating Council, Inc. for Approval of Amendments to the Bylaws of Northeast Power Coordinating Council, Inc.

Filed Date: 3/11/22.

Accession Number: 20220311-5207.

Comment Date: 5 p.m. ET 4/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2022.
Kimberly D. Bose,
Secretary.

[FR Doc. 2022-05645 Filed 3-16-22; 8:45 am]

BILLING CODE 6717-01-P